DEPARTMENT OF THE INTERIOR

National Park Service

[NPS-WASO-NRNHL-DTS#-37887; PPWOCRADI0, PCU00RP14.R50000]

National Register of Historic Places; Notification of Pending Nominations and Related Actions

AGENCY: National Park Service, Interior.

ACTION: Notice.

SUMMARY: The National Park Service is soliciting electronic comments on the significance of properties nominated before April 27, 2024, for listing or related actions in the National Register of Historic Places.

DATES: Comments should be submitted electronically by May 20, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 27, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

IOWA

Carroll County

Graham Park Historic District, North Grant Road, Carroll, SG100010399

KANSAS

Marshall County

Vermillion United Methodist Church, 300 Silver Street, Vermillion, SG100010392

NEW YORK

New York County

Metro North Plaza, 307 East 101st Street, 345 East 101st Street, 310 102nd Street, Manhattan, SG100010393

Ontario County

Gorham, William W., House, 5266 Parrish Street Extension, Canandaigua, SG100010386

OKLAHOMA

Canadian County

St. John's Evangelical Lutheran Church, 408 Colorado Ave., Okarche, SG100010406

Kiowa County

Lone Wolf School, 1001 7th Street, Lone Wolf, SG100010405

Oklahoma County

Clyde's Supermarket and T.G.&Y, 1100 N Walker Ave. and 429 NW 10th St., Oklahoma City, SG100010404

OREGON

Linn County

Cumberland Presbyterian Church, 1400 Santiam Road SE, Albany, SG100010391

Polk County

Dallas Downtown Historic District, Generally bounded by Washington, Church, Oak, and Jefferson Streets, Dallas, SG100010387

PUERTO RICO

Moca Municipality

Hacienda Enriqueta, Carretera Estatal PR-125, Km. 0.9, Moca vicinity, SG100010389

Ponce Municipality

Casa Ricardo Ruiz Mari (Development of Playa de Ponce Ward, 1800-1960 MPS), Calle Arias #14, Playa de Ponce, MP100010382

Puente Rio lnabón (Historic Bridges of Puerto Rico MPS), Carretera Num. 1, Km. 120.4, Ponce, MP100010383

Iglesia Cristiana, 110 Luis Muñoz Rivera Street, Santa Isabel, SG100010384

SOUTH CAROLINA

Dillon County

Latimer High and Elementary School, 122 Latimer Street, Latta, SG100010400

Greenwood County

State Theatre, 110 Main Street, Greenwood, SG100010398

SOUTH DAKOTA

Pennington County

South Dakota Stockgrowers Association Building, 426 St. Joseph St., Rapid City, SG100010394

TEXAS

Travis County

Charles Umlauf House and Studio, Address Restricted, Austin, SG100010381

WASHINGTON

King County

Wenberg, Dr. Johan and Louise, House, 5360 232nd Avenue SE, Issaquah, SG100010385

Spokane County

Moldenhauer, Dr. Hans & Rosaleen, House, 808 S Lincoln St., Spokane, SG100010388

An additional documentation has been received for the following resource(s):

ARIZONA

Pima County

Sunshine Mile Historic District (Additional Documentation), Broadway Blvd. between Euclid & Country Club Rds., Tucson, AD100005229

Rincon Heights Historic District (Additional Documentation), Roughly bounded by 6th St., Broadway Blvd., Campbell & Fremont Aves., Tucson, AD12001190

OREGON

Multnomah County

Hotel Alma (Additional Documentation) (Downtown Portland, Oregon MPS), 303 SW 12th Avenue, Portland, AD09000706

TENNESSEE

Blount County

Anderson Hall (Additional Documentation), Maryville College campus, Maryville, AD75001732

Fayette County

Immanuel Church (Additional Documentation), 35 2nd Street, La Grange, AD72001239

Montgomery County

Clarksville Federal Building (Additional Documentation), 200 S 2nd Street, Clarksville, AD72001246

Rutherford County

Ready, Charles, House (Additional Documentation), 1990 Readyville Street, Readyville, AD73001828

Shelby County

First Baptist Church (Additional Documentation), 379 Beale Ave., Memphis, AD71000833

Tri-State Bank (Additional Documentation), 386 Beale St., Memphis, AD71000836

Germantown Baptist Church (Additional Documentation), 2216 Germantown Rd., Germantown, AD75001786

Authority: Section 60.13 of 36 CFR part 60.

Sherry A. Frear,
Chief, National Register of Historic Places/National Historic Landmarks Program.

[FR Doc. 2024-09680 Filed 5-2-24; 8:45 am]

BILLING CODE 4312-52-P